DEPARTMENT OF HEALTH AND HUMAN SERVICES

Centers for Medicare and Medicaid Services

[Document Identifier: CMS-10091 and CMS-R-299]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection.

Title of Information Collection: UPIN (Unique Physician Identification Number) Participating Physicians Directory.

Form No.: CMS-10091(OMB# 0938-0905).

Use: In November of 2000, CMS launched the Participating Physicians Directory on http://www.medicare.gov. This particular directory was created to provide beneficiaries with the names, addresses, and specialties of Medicare participating physicians who have agreed to accept assignment on all Medicare claims and covered services. CMS is adding information from already existing sources; in addition, CMS wants to collect a new data element “Accepting New Patients Indicator” which is essential to a beneficiary's search for a physician.

Frequency: On occasion.

Affected Public: Business or other for-profit.

Number of Respondents: 10,980.

Total Annual Responses: 10,980.

Total Annual Hours: 915.

2. Type of Information Collection Request: Revision of a currently approved collection.

Title of Information Collection: A project to Develop an Outcome-Based Continuous Quality Improvement System and Core Outcome and Comprehensive Assessment Data Set for PACE.

Form No.: CMS-R-299 (OMB# 0938-0791).

Use: The purpose of this project is to develop an outcome-based continuous quality improvement (OBCQI) system and core comprehensive assessment data set for the PACE program by (a) developing and testing a set of data items for core outcome and comprehensive assessment (COCOA), (b) testing risk-adjustment methods so each site's outcomes can be appropriately evaluated, (c) designing an OBCQI approach to improve quality in a systematic, evolutionary manner, and (d) testing the usefulness of the data items for assessment and care planning. A three-phase field test will result in the refinement of the draft COCOA data items and protocols needed. Findings from the project are intended to guide the possible implementation of a national approach for OBCQI and core comprehensive assessment for PACE.

Frequency: On occasion and Semi-annually.

Affected Public: Individuals or Households and Not-for-profit institutions.

Number of Respondents: 8,320.

Total Annual Responses: 116,038.

Total Annual Hours: 16,959.98.

To obtain copies of the supporting statement and any related forms for the proposed paperwork collections referenced above, access CMS's Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: October 2, 2003.
Dawn Willinghan,
CMS Reports Clearance Officer, Office of Strategic Operations and Strategic Affairs, Division of Regulations Development and Issuances.

[FR Doc. 03-25764 Filed 10-9-03; 8:45 am]

BILLING CODE 4120-03-P